DEPARTMENT OF THE INTERIOR

National Park Service

Lake McDonald/Park Headquarters Wastewater Treatment System Rehabilitation Draft Environmental Impact Statement, Glacier National Park, Montana

AGENCY: National Park Service, Department of the Interior.

ACTION: Availability of Draft Environmental Impact Statement (DEIS) for the Lake McDonald/Park Headquarters Wastewater Treatment System Rehabilitation, Glacier National Park, Montana.

SUMMARY: Pursuant to section 102(2)(c) of the National Environmental Policy Act of 1969, the National Park Service announces the availability of a DEIS for the Lake McDonald/Park Headquarters Wastewater Treatment System Rehabilitation, Glacier National Park, Montana.

DATES: The DEIS will remain available for public review through March 31, 2000. If any public meetings are held concerning the DEIS, they will be announced at a later date.

Comments

If you wish to comment, you may submit your comments by any one of several methods. You may mail comments to Superintendent, Wastewater Project, Glacier National Park, West Glacier MT 59936. You may also comment via the Internet to www.nps.gov/glac. Please submit Internet comments as an ASCII file avoiding the use of special characters and any form of encryption. Please also include “Attn: Wastewater Project” and your name and return address in your Internet message. If you do not receive a confirmation from the system that we have received your Internet message, contact us directly at Glacier National Park, (406) 888-7901. Finally, you may hand-deliver comments to Glacier National Park, Headquarters, West Glacier, MT. Our practice is to make comments, including names and home addresses of respondents available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

ADDRESSES: Copies of the DEIS for the Wastewater Project are available from the Superintendent, Glacier National Park, West Glacier Montana 59936. It is also available on the Internet at www.nps.gov/glac. Public reading copies of the DEIS will be available for review at the following locations:

Office of the Superintendent, Glacier National Park, West Glacier, MT 59936, Telephone: (406) 888-7901

Planning and Environmental Quality, Intermountain Support Office—Denver, National Park Service, P.O. Box 25287, Denver, CO 80225-0287, Telephone: (303) 969-2851 [or (303) 969-2377]

Office of Public Affairs, National Park Service, Department of Interior 18th and C Streets NW, Washington D.C. 20240, Telephone: (202) 208-6843

SUPPLEMENTARY INFORMATION: The Draft Environmental Impact Statement (DEIS) was prepared to address rehabilitation of the wastewater treatment system that currently serves the west side of Glacier National Park (Park). The service area for the existing wastewater treatment plant (WWTP) includes Park Headquarters and residences, campgrounds, Lake McDonald Lodge, and concession businesses and employee housing. The existing WWTP is no longer meeting its original treatment objective or operating at design capacity.The preferred alternative (Alternative 3) is to construct an advanced WWTP, with a land discharge site. This alternative would provide the greatest level of treatment and the highest water quality of the alternatives considered. Minimal new site disturbance would be necessary to implement the preferred alternative and the existing spray field in the floodplain of the Middle Fork of the Flathead River and McDonald Creek would no longer be used. Alternative 1A includes construction of an additional storage lagoon and a new spray field to discharge treated effluent. This would require clearing 6.5 hectares of undisturbed land and the existing spray field would continue to be used. Alternative 1B includes construction of two new storage lagoons and an additional aerated lagoon (3.6 hectares). The existing spray field would continue to be used. Alternative 2A includes construction of an advanced WWTP and a series of three rapid infiltration basins (3.6 hectares) to discharge treated effluent to the ground water. The existing spray field would no longer be used. The no action alternative (Alternative 4) would continue operation of the existing WWTP and spray field. Occasional raw sewage spills are possible when storage capacity is exceeded and the spray field cannot be operated because of wet conditions. The details of the alternatives and potential impacts to wildlife, vegetation, and threatened and endangered species and benefits to water quality and Park and concession operations are described in this document and are summarized in Table 2. Estimated costs to implement the alternatives are presented in Table 1.

FOR FURTHER INFORMATION CONTACT: Superintendent, Glacier National Park at the above address and telephone number.

Dated: January 28, 2000.
John A. King,
Director, Intermountain Region, National Park Service.

[FR Doc. 00-2612 Filed 2-4-00; 8:45 am]

BILLING CODE 4310-70-P